DEPARTMENT OF COMMERCE

International Trade Administration

[A-570-831]

Fresh Garlic From the People's Republic of China: Extension of Time Limit for the Preliminary Results of the New Shipper Review

AGENCY: Import Administration, International Trade Administration, Department of Commerce.

DATES: Effective Date: November 19, 2009.

FOR FURTHER INFORMATION CONTACT: Scott Lindsay, AD/CVD Operations, Office 6, Import Administration, International Trade Administration, U.S. Department of Commerce, 14th Street and Constitution Avenue, NW., Washington, DC 20230; telephone: (202) 482-0780.

Background

On June 24, 2009, the Department of Commerce (Department) initiated a new shipper review of fresh garlic from the People's Republic of China (PRC) for Qingdao Sea-line International Trading Co., Ltd. (Sea-line) covering the period November 1, 2008 through April 30, 2009. See Fresh Garlic from the People's Republic of China: Initiation of New Shipper Review, 74 FR 31241 (June 30, 2009). The preliminary results of this new shipper review are currently due no later than December 21, 2009.

Statutory Time Limits

Section 751(a)(2)(B)(iv) of the Tariff Act of 1930, as amended (the Act), provides that the Department will issue the preliminary results of a new shipper review of an antidumping duty order within 180 days after the day on which the review was initiated. See also 19 CFR 351.214(i)(1). The Act further provides that the Department may extend that 180-day period to 300 days if it determines that the case is extraordinarily complicated. See 19 CFR 351.214(i)(2).

Extension of Time Limit for Preliminary Results

The Department determines that this new shipper review involves extraordinarily complicated methodological issues, including the examination of importer information. Additional time is also required to ensure that the Department has adequate time to include Sea line's supplemental questionnaire responses in its examination of the bona fides of the company's sale. Therefore, in accordance with section 751(a)(2)(B)(iv) of the Act and 19 CFR 351.214(i)(2), the Department is extending the time limit for this preliminary results to 300 days, until no later than April 20, 2010.

We are issuing and publishing this notice in accordance with sections 751(a)(2)(B)(iv) and 777(i) of the Act.

Dated: November 4, 2009.
Edward C. Yang,
Acting Deputy Assistant Secretary for Antidumping and Countervailing Duty Operations.

[FR Doc. E9-27653 Filed 11-18-09; 8:45 am]

BILLING CODE 3510-DS-M